DEPARTMENT OF LABOR

Mine Safety and Health Administration

30 CFR Part 49

RIN 1219-AB44

Underground Mine Rescue Equipment and Technology

AGENCY: Mine Safety and Health Administration (MSHA), Labor.

ACTION: Request for Information; notice of public meeting.

SUMMARY: MSHA will hold a public meeting to receive comments on specific topics raised in its Request for Information (RFI) published in the Federal Register on January 25, 2006 (71 FR 4224). The RFI sought comments, data, and other information on topics relevant to underground mine rescue equipment and technology. The purpose of the meeting is to receive technical information with respect to technology used for underground communications and tracking of underground miners in order to improve mine rescue capabilities in both coal and in metal and nonmetal mines.

DATES: The public meeting will be held on Monday, March 13, 2006 at the National Press Club, 529 14th Street, NW., First Amendment Lounge, 13th Floor, Washington, DC 20045. If individuals or organizations wish to make an oral presentation for the record, they should submit their request at least five days prior to the meeting date. MSHA encourages speakers to request speaking time in advance of the meeting. You may request to speak by contacting the Office of Standards, Regulations, and Variances, at (202) 693-9440 or by e-mail to Yvonne Quinn at Quinn.Yvonne@dol.gov. Include the regulatory information number, RIN 1219-AB44, in your e-mail. Any unalloted time will be made available to persons making same-day requests to speak at the meeting.

Members of the public may submit written comments relating to the RFI as set out in the ADDRESSES section of this Notice. The post-public meeting comment period will close concurrently with the comment period for the RFI on March 27, 2006.

ADDRESSES: You may use mail, facsimile (fax), or electronic mail to send us your request to make an oral presentation at the public meeting or to submit written comments. Clearly identify your request and send it one of the following ways:

(1) Fax: (202) 693-9441. Include RIN 1219-AB44 in the subject line of the fax.

(2) By electronic mail to comments@msha.gov. Include RIN 1219-AB44 in the subject line of your electronic mail.

(3) Mail/Hand Delivery/Courier: MSHA, Office of Standards, Regulations, and Variances, 1100 Wilson Blvd., Room 2313, Arlington, VA 22209-3939. If hand-delivered in person or by courier, please stop by the 21st floor first to check in with the receptionist before continuing on to the 23rd floor.

Docket: To access comments electronically, go to http://www.msha.gov and click on “Comments” under “Rules and Regulations.” All comments received will be posted without change at this Web address, including any personal information provided. Paper copies of the comments may also be reviewed at the Office of Standards, Regulations, and Variances, 1100 Wilson Blvd., Room 2349, Arlington, VA.

FOR FURTHER INFORMATION CONTACT: Robert Stone, Acting Director, Office of Standards, Regulations, and Variances, MSHA, 1100 Wilson Boulevard, Room 2350, Arlington, VA 22209-3939. Mr. Stone can be reached at Stone.Robert@dol.gov (Internet e-mail), (202) 693-9440 (voice), or (202) 693-9441 (facsimile).

To subscribe to the MSHA listserve and receive automatic notification of MSHA Federal Register publications, visit the site at http://www.msha.gov/subscriptions/subscribe.aspx.

SUPPLEMENTARY INFORMATION:

Format of the Public Meeting

The public meeting will begin on March 13 at 8:30 a.m. and is scheduled to end at 5 p.m. Please note that speakers and all members of the public may also submit written documentation to the MSHA panel on the date of the meeting. Any written comments received at the meeting will be included in the public meeting record.

The meeting will be held at the National Press Club, 529 14th Street, NW., First Amendment Lounge, 13th Floor, Washington, DC 20045. The meeting will begin with an opening statement from MSHA, followed by an opportunity for members of the public to make oral presentations. MSHA is specifically soliciting technical presentations that discuss the following key issues raised in the RFI: underground communications and tracking of underground miners. Please note that MSHA approves all electrically operated equipment taken in by the last open cross-cut in a coal mine as “permissible” under Title 30 Code of Federal Regulations, subchapter B. Accordingly, technical presentations should address permissibility and intrinsic safety. Information concerning MSHA's approval programs can be obtained from the MSHA Web site at http://www.msha.gov.

The meeting will be conducted in an informal manner. The MSHA panel at the meeting may ask questions of speakers. The presiding official may exercise discretion to ensure the orderly progress of the meeting and may exclude irrelevant or unduly repetitious material and questions. A transcript of the proceeding will be prepared and made a part of the public meeting record. The transcript will be available on MSHA's Home Page at http://www.msha.gov, under Statutory and Regulatory Information.

Dated: February 21, 2006.
David G. Dye,
Acting Assistant Secretary for Mine Safety and Health.

[FR Doc. 06-1748 Filed 2-22-06; 8:45 am]

BILLING CODE 4510-43-P